NATIONAL COUNCIL ON DISABILITY

Sunshine Act Meetings

TIME AND DATE: The Members of the National Council on Disability (NCD) will hold a quarterly meeting on Thursday, July 28, 2016, 9 a.m.—4:15 p.m. (Central Time), and on Friday, July 29, 2016, 9 a.m.—12:30 p.m. (Central Time) in Minneapolis, Minnesota.

PLACE: This meeting will occur in the Bergen I Meeting Room, Radisson Blu Downtown Minneapolis at 35 South 7th Street, Minneapolis, Minnesota 55402. Interested parties are welcome to join in person or by phone in a listening-only capacity (other than the period allotted for public comment noted below) using the following call-in number: 888-510-1765; Conference ID: 5785469; Conference Title: NCD Meeting; Host Name: Clyde Terry.

MATTERS TO BE CONSIDERED: The Council will receive an update on the mental health in postsecondary education report; as well as hear policy presentations on the topics of the connection between disability and poverty; economic mobility gridlock for people with disabilities; the direct care workforce; and what a system designed to help people with disabilities out of poverty would look like. The Council will receive public comment during three town halls, on the topics of disability and poverty; economic mobility gridlock for people with disabilities; and what a system designed to help people with disabilities out of poverty would look like. The Council will also receive reports from its standing committees; and discuss policy priorities for the next fiscal year. The Council is expected to vote on a final draft of the 2016 Progress Report as well as its slate of policy priorities for the next fiscal year.

Agenda: The times provided below are approximations for when each agenda item is anticipated to be discussed (all times Central):

Thursday, July 28

9-9:30 a.m.—Call to Order, Welcome and Introductions

9:30-10:15 a.m.—Update on the Mental Health in Postsecondary Education Report

10:15-10:30 a.m.—Break

10:30-11:15 a.m.—Connection between Disability and Poverty Panel

11:15-11:45 a.m.—Town Hall to Receive Comments on Disability and Poverty 11:45 a.m.-12:45 p.m.—Lunch Break

12:45-1:30 p.m.—Economic Mobility Gridlock: Systemic Challenges & Incompatibilities, & Contradictions Panel

1:30-2 p.m.—Town Hall to Receive Comments on Economic Mobility Gridlock: Systemic Challenges & Incompatibilities, & Contradictions

2-2:15 p.m.—Break

2:15-3 p.m.—Direct Care Workforce Panel

3-3:45 p.m.—What would a system look like if it was designed to get person with a disability out of poverty? Panel

3:45-4:15 p.m.—Town Hall to Receive Comments on What would a system look like if it was designed to get person with a disability out of poverty?

4:15 p.m.-Adjourn

Friday, July 29

9-11:15 a.m.—Council Discussion of Proposed Priorities

11:15-11:30 a.m.—Break

11:30 a.m.-12:30 p.m.—NCD Business Meeting

12:30 p.m.-Adjournment

Public Comment: To better facilitate NCD's public comment, any individual interested in providing public comment is asked to register his or her intent to provide comment in advance by sending an email to PublicComment@ncd.gov with the subject line “Public Comment” with your name, organization, state, and topic of comment included in the body of your email. Full-length written public comments may also be sent to that email address. All emails to register for public comment at the quarterly meeting must be received by Wednesday, July 27, 2016. Priority will be given to those individuals who are in-person to provide their comments during the town hall portions of the agenda. Those commenters on the phone will be called on according to the list of those registered via email. Due to time constraints, NCD asks all commenters to limit their comments to three minutes. Comments received at the quarterly meeting will be limited to those regarding what a system would look like if it was designed to get person with a disability out of poverty; economic mobility gridlock; and the connection between disability and poverty, each during its respective slot of time for the themed town hall as previously noted in the agenda.

Accommodations: A CART streamtext link has been arranged for this teleconference meeting. The web link to access CART on Thursday, July 28, 2016 is: https://www.streamtext.net/player?event=072816ncd900am; and on Friday, July 29, 2016 is: https://www.streamtext.net/player?event=072916ncd900am.

Those who plan to attend the meeting in-person and require accommodations should notify NCD as soon as possible to allow time to make arrangements. To help reduce exposure to fragrances for those with multiple chemical sensitivities, NCD requests that all those attending the meeting in person refrain from wearing scented personal care products such as perfumes, hairsprays, and deodorants.

CONTACT PERSON FOR INFORMATION: Anne Sommers, NCD, 1331 F Street, NW., Suite 850, Washington, DC 20004; 202-272-2004 (V), 202-272-2074 (TTY).

Dated: July 7, 2016.
Rebecca Cokley,
Executive Director.

[FR Doc. 2016-16539 Filed 7-8-16; 11:15 am]

BILLING CODE 8421-03-P